DEPARTMENT OF AGRICULTURE

Submission for OMB Review; Comment Request; Reinstatement

The Department of Agriculture has submitted the following information collection requirement(s) to OMB for review and reinstatement under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by January 25, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Fruit Crops.

OMB Control Number: 0581-0189.

Summary of Collection: Marketing orders and marketing agreements are authorized by the Agricultural Marketing Agreement Act of 1937 (7 U.S.C. 601-674; Act). This legislation permits the regulation of certain agricultural commodities for the purpose of providing orderly marketing conditions in interstate and intrastate commerce and improving returns to producers. The Act provides in section 608(d)(1) that information necessary to determine the extent to which an order has effectuated the declared policy of the Act shall be furnished at the request of the Secretary of Agriculture (Secretary). Marketing orders and marketing agreements become effective only after public hearings are held in accordance with formal rulemaking procedures specified by the Act. The Federal programs can authorize the issuance of grade, size, quality, maturity and inspection requirements; pack and container requirements; and pooling and volume regulations. Some provide authority for research and development, including paid advertising. Pursuant to section 608(e)(1) of the Act, certain grade and condition requirements are imposed on 14 commodities imported into the United States for which Orders regulate domestic production.

Need and Use of the Information: The information collection requirements in this request are essential to carry out the intent of the Act, to provide the respondents the type of service they request, and to administer the marketing orders. The Agricultural Marketing Service (AMS) requires several forms to be filed to enable the administration of each marketing order. These include forms covering the selection process for industry members to serve on a marketing order's committee or board and ballots used in referenda to amend or continue marketing orders. If this information collection was not conducted, not only would the Secretary lose his ability to administer the marketing orders, but the respective committees also would have no way of monitoring industry compliance with their respective marketing order and agreement. They would also not be able to determine the assessments due from industry handlers and growers, which would negatively impact any market research and promotion activities.

Description of Respondents: Business or other for-profit; Farms.

Number of Respondents: 21,858.

Frequency of Responses: Recordkeeping; Reporting; on occasion, Quarterly; Biennially; Weekly; Semi-annually; Monthly; Annually.

Total Burden Hours: 6,595.

Levi S. Harrell,
Departmental Information Collection Clearance Officer.

[FR Doc. 2023-28379 Filed 12-22-23; 8:45 am]

BILLING CODE 3410-02-P